DEPARTMENT OF THE INTERIOR

Bureau of Land Management

[ID-957-1020-BJ]

Idaho: Filing of Plats of Survey

AGENCY: Bureau of Land Management, Interior.

ACTION: Notice.

SUMMARY: The plats of the following described lands were officially filed in the Idaho State Office, Bureau of Land Management, Boise, Idaho, effective 9:00 a.m., on the dates specified: The supplemental plat was prepared to correct certain erroneously depicted areas, bearings, lines, and distances of the plat accepted April 20, 2000, T. 35 N., R. 4 W., Boise Meridian, Idaho, was accepted February 9, 2001. This plat was prepared to meet certain administrative needs of the Bureau of Indian Affairs, Northern Idaho Agency.

The plat representing the dependent resurvey of the subdivisional line between sections 13 and 14, T. 16 S., R. 21 E., Boise Meridian, Idaho, Group Number 1067, was accepted March 13, 2001. The plat was prepared to meet certain administrative needs of the Bureau of Land Management. The supplemental plat was necessary to correct certain inadvertently depicted distances on the line between corners 1 and 2 of the SBMS-2 millsite, as noted on the plat accepted March 4, 1992, T. 13 N., R. 15 E., Boise Meridian, Idaho, was accepted March 19, 2001. The plat was prepared to meet certain administrative needs of the Bureau of Land Management.

The plat representing the dependent resurvey of the portions of the east and north boundaries, subdivisional lines, and boundaries of certain mineral surveys, and the subdivision of section 1, T. 48 N., R. 4 E., Boise Meridian, Idaho, Group Number 997, was accepted March 30, 2001. The plat was prepared to meet certain administrative needs of the Bureau of Land Management.

FOR FURTHER INFORMATION CONTACT: Duane Olsen, Chief, Cadastral Survey, Idaho State Office, Bureau of Land Management, 1387 South Vinnell Way, Boise, Idaho, 83709-1657, 208-373-3981.

Dated: April 3, 2001.
Duane E. Olsen,
Chief, Cadastral Surveyor of Idaho.

[FR Doc. 01-9439 Filed 4-16-01; 8:45 am]

BILLING CODE 4310-66-P